SURFACE TRANSPORTATION BOARD

[Docket No. FD 35729 (Sub-No. 1)]

Ann Arbor Railroad, Inc.—Lease Renewal and Operation Exemption With Interchange Commitment—Norfolk Southern Railway Company

Ann Arbor Railroad, Inc. (AARR), a Class III rail carrier, has filed a verified notice of exemption pursuant to 49 CFR 1150.43 to renew its lease with Norfolk Southern Railway (NSR) of rail lines totaling approximately 3.69 miles over two segments between: (1) milepost CS 1.26 and milepost CS 2.65 in Toledo, Ohio, and (2) milepost GY 85.40 and GY 87.70 in Toledo (collectively, the Lines). NSR owns the Line, and AARR currently operates the Lines under a lease.¹

¹ AARR has been authorized to lease and operate the Line since 2013. See Ann Arbor R.R.--Norfolk S. Ry., FD 35729 (STB served July 12, 2013).

According to the verified notice, AARR and NSR have executed a first amendment to their lease, which, along with the original lease from 2013, will govern AARR's operations going forward. AARR further states it will operate the Lines and provide all rail common carrier service to shippers on the Lines as it has done since 2013.

As required under 49 CFR 1150.43(h)(1), AARR certifies in its verified notice that the lease contains an interchange commitment. AARR verifies that the terms of the interchange commitment remain the same as they were in 2013.² AARR has provided additional information regarding the interchange commitment as required by 49 CFR 1150.43(h).

² A copy of the lease containing the interchange commitment was filed under seal with the verified notice. See 49 CFR 1150.43(h)(1).

AARR certifies that its projected revenues resulting from this transaction will not result in the creation of a Class II or Class I rail carrier but that its current annual revenue does exceed $5 million. Pursuant to 49 CFR 1150.42(e), if a carrier's projected annual revenues will exceed $5 million, it must, at least 60 days before the exemption is to become effective, post a notice of its intent to undertake the proposed transaction at the workplace of the employees on the affected lines, serve a copy of the notice on the national offices of the labor unions with employees on the affected lines, and certify to the Board that it has done so. AARR, however, has petitioned for waiver of the 60-day advance labor notice. AARR's waiver request will be addressed in a separate decision in which the Board will also establish the effective date of the exemption.

If the verified notice contains false or misleading information, the exemption is void ab initio. Petitions to revoke the exemption under 49 U.S.C. 10502(d) may be filed at any time. The filing of a petition to revoke will not automatically stay the effectiveness of the exemption. Petitions for stay must be filed no later than April 12, 2024.

All pleadings, referring to Docket No. FD 35729 (Sub-No. 1), must be filed with the Surface Transportation Board via e-filing on the Board's website or in writing addressed to 395 E Street SW, Washington, DC 20423-0001. In addition, a copy of each pleading must be served on AARR's representative, Robert A. Wimbish, Fletcher & Sippel LLC, 29 North Wacker Drive, Suite 800, Chicago, IL 60606-3208.

According to AARR, this action is categorically excluded from historic preservation reporting requirements under 49 CFR 1105.8(b) and from environmental reporting requirements under 49 CFR 1105.6(c).

Board decisions and notices are available at www.stb.gov.

Decided: April 1, 2024.
By the Board, Scott M. Zimmerman, Acting Director, Office of Proceedings.
Brendetta Jones,
Clearance Clerk.

[FR Doc. 2024-07264 Filed 4-4-24; 8:45 am]

BILLING CODE 4915-01-P